DEPARTMENT OF THE INTERIOR

Bureau of Land Management

[BLM_OR_FRN_MO4500181464]

Notice of Segregation of Public Land for the Expedition Solar Project, Deschutes County, Oregon

AGENCY: Bureau of Land Management, Department of Interior.

ACTION: Notice.

SUMMARY: Through this notice the Bureau of Land Management (BLM) is segregating 4,037 acres of public lands included in the right-of-way application for the Expedition Solar Project from appropriation under the public land laws, including the mining laws, but not the mineral leasing or material sales laws, for a period of two years from the date of publication of this notice, subject to valid existing rights. This segregation is to allow for the orderly administration of the public lands to facilitate consideration of development of renewable energy resources.

DATES: The segregation for the lands identified in this notice is effective on the date of this Federal Register notice publication.

FOR FURTHER INFORMATION CONTACT: For further information and/or to have your name added to the mailing list, send requests to: Faith Simitz, Realty Specialist, Prineville District Office, (541) 416-6783, fsimitz@blm.gov, or 3050 NE 3rd Street, Prineville, OR 97754. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: Regulations found at 43 CFR 2091.3-1(e) and 2804.25(f) allow the BLM to temporarily segregate public lands within a right-of-way application area for solar energy development from the operation of the public land laws, including the mining laws, by publication of a Federal Register notice. The BLM uses this temporary segregation authority to preserve its ability to approve, approve with modifications, or deny proposed rights-of-way, and to facilitate the orderly administration of the public lands. This temporary segregation is subject to valid existing rights, including valid existing rights in mining claims located before this segregation notice. Licenses, permits, cooperative agreements, or discretionary land use authorizations of a temporary nature that would not impact lands identified in this notice may be allowed with the approval of an authorized officer of the BLM during the segregation period. The lands segregated under this notice are legally described as follows:

Expedition Solar Project

Willamette Meridian, Oregon

T. 16 S., R. 13 E.

Sec. 5, S½SW¼ and SW¼SE¼;

Sec. 6, SE¼SE¼;

Sec. 7, E½NE¼ and E½SE¼;

Sec. 8, W½NE¼, W½, and W½SE¼;

Sec. 17, W½NE¼, W½, and W½SE¼;

Sec. 18, NE¼NE¼, S½NE¼, and SE¼;

Sec. 19, E½ and SE¼SW¼;

Sec. 20;

Sec. 21, W½NE¼, W½, and W½SE¼;

Sec. 28, W½NE¼, W½, and W½SE¼;

Sec. 29;

Sec. 30, N½NE¼, SE¼NE¼, NE¼NW¼, and E½SE¼;

Sec. 31, E½NE¼;

Sec. 32, N½;

Sec. 33, W½NE¼ and NW¼.

TOGETHER WITH access along Morrill Road, located within the following:

Willamette Meridian, Oregon

T. 16 S., R. 12 E.

Sec. 25, S½NE¼, SE¼NW¼, N½SW¼, and N½SE¼.

T. 16 S., R. 13 E.

Sec. 30, S½NE¼, S½NW¼, N½SW¼, and N½SE¼.

The area described contains approximately 4,037 acres.

As provided in the regulations, the segregation of lands in this notice will not exceed two years from the date of publication unless extended for an additional two years through publication of a new notice in the Federal Register. The segregation period will terminate and the land will automatically reopen to appropriation under the public land laws, including the mining laws, at the earliest of the following dates: upon issuance of a decision by the authorized officer granting, granting with modifications, or denying the application for a right-of-way; without further administrative action at the end of the segregation provided for in the Federal Register notice initiating the segregation; or upon publication of a Federal Register notice terminating the segregation.

Upon termination of the segregation of these lands, all lands subject to this segregation would automatically reopen to appropriation under the public land laws, including the mining laws.

Authority: 43 CFR 2091.3-1(e) and 43 CFR 2804.25(f).

Amanda S. Roberts,
District Manager—Prineville District Office.

[FR Doc. 2024-27320 Filed 11-20-24; 8:45 am]

BILLING CODE 4331-24-P